DEPARTMENT OF TRANSPORTATION

Federal Aviation Administration

[Docket No. 2023-1341]

Agency Information Collection Activities: Requests for Comments; Clearance of Renewed Approval of Information Collection: Competition Plans, Passenger Facility Charges

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 23, 2023 under docket number FAA-2020-0385. The collection involves information on the availability of airport gates and related facilities, leasing and sub-leasing arrangements, gate-use requirements, gate-assignment policy, financial constraints, airport controls over air- and ground-side capacity, and whether the airport intends to build or acquire gates that would be used as common facilities. The information to be collected is necessary because it is required by statute that a covered airport submits a written competition plan to the Secretary/Administrator in order to receive approval to impose a Passenger Facility Charge (PFC) or to receive a grant under the Airport Improvement Program (AIP) or Bipartisan Infrastructure Law (BIL).

DATES: Written comments should be submitted by April 5, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jane Johnson by email at: jane.johnson@faa.gov; phone: 202-267-5878.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0661.

Title: Competition Plans, Passenger Facility Charge.

Form Numbers: There are no FAA forms associated with this collection.

Type of Review: Renewal of an information collection.

Background: The Federal Register Notice with a 60-day comment period soliciting comments on the following collection of information was published on June 23, 2023 (88 FR 41184). This collection asks the public agencies to report on the availability of airport gates and related facilities, leasing and sub-leasing arrangements, gate-use requirements, gate-assignment policy, financial constraints, airport controls over air- and ground-side capacity, and whether the airport intends to build or acquire gates that would be used as common facilities. The DOT/FAA uses information submitted in response to this requirement to carry out the intent of §§ 40117(k) and 47106(f), which is to assure that a covered airport has, and implements, a plan to provide opportunities for competitive access by new entrant air carriers or air carriers seeking to expand. The information allows FAA to assess the competitive environment at airports and provide feedback to the airport on suggested improvements.

Once an airport qualifies as covered the collection frequency is as follows: it is required to send its initial competition plan as soon as possible. Upon approval by the FAA of the initial competition plan, the public agency must submit two (2) competition plan updates, in 18-month intervals, while it remains a covered airport. Once an airport has submitted, and the FAA has approved, its initial competition plan and the subsequent two (2) updates, a competition plan is only required if the airport (1) has filed a competitive access report as required by Section 424 of Vision 100, codified as 49 U.S.C. 47107(s) stating it has denied access to an air carrier for gates or facilities within the last six months; or (2) is executing a new master lease and use agreement, or significantly amending a lease and use agreement, including an amendment due to use of PFC financing of gates. If an airport loses its status as a covered airport, no further competition plan updates are required unless or until the airport becomes covered again.

Respondents: Five (5) affected airports annually.

Frequency: On occasion.

Estimated Average Burden per Response: Approximately 150 hours.

Estimated Total Annual Burden: Approximately 750 annually.

Issued in Washington, DC, on February 29, 2024.
David F. Cushing,
Manager, Airports Financial Assistance Division, APP-500.

[FR Doc. 2024-04681 Filed 3-5-24; 8:45 am]

BILLING CODE 4910-13-P